DEPARTMENT OF JUSTICE

Antitrust Division

Notice Pursuant to the National Cooperative Research and Production Act of 1993; National Armaments Consortium

Notice is hereby given that, on February 6, 2014, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Bulova Technologies Group Inc., Tampa, FL; Colt Defense LLC, Hartford, CT; D&S Consultants, Inc. (DSCI), Eatontown, NJ; Defense Research Associates, Inc. (DRA), Beavercreek, OH; Innovative Materials and Processes, LLC, Rapid City, SD; Quantum Technology Consultants, Inc., Franklin Park, NJ; South Dakota School of Mines and Technology, Rapid City, SD; The Charles Stark Draper Laboratory, Inc., Cambridge, MA; Touchstone Research Laboratory, LTD, Triadelphia, WV; University of Louisiana at Lafayette, Lafayette, LA; and Vingtech, Biddeford, ME, have been added as parties to this venture.

Also, NAVSYS Corporation, Colorado Springs, CO; Thales USA Defense & Security, Inc, Arlington, VA; Tiburon Associates, Inc., Alexandria, VA; Vermillion Incorporated, Wichita, KS; and Wilkes University, Wilkes-Barre, PA, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on November 14, 2013. A notice was published in the Federal Register pursuant to Section 6(b) of the Act on December 9, 2013 (78 FR 73884).

Patricia A. Brink,
Director of Civil Enforcement, Antitrust Division.

[FR Doc. 2014-05454 Filed 3-12-14; 8:45 am]

BILLING CODE P